FEDERAL MARITIME COMMISSION

[Docket No. 03-07]

FSL International, Inc., and Hiu-Leung Yeung, and Full Service Logistics, Inc., and Mei Fung Tsang—Possible Violations of Sections 10(a)(1), 10(b)(2), 10(b)(11) and Sections 19(a) and (b) of the Shipping Act of 1984 and 46 CFR Part 515; Order of Investigation and Hearing

June 26, 2003.

Notice is given that on June 26, 2003, the Federal Maritime Commission served an Order of Investigation and Hearing on FSL International, Inc. (“FSL International”), Hiu-Leung Yeung, Full Service Logistics, Inc. (“Full Service Logistics”), and Mei Fung Tsang. From May 1, 1999 through February 18, 2003, FSL International, a California corporation, was a tariffed and bonded ocean transportation intermediary (“OTI”) licensed as a non-vessel-operating common carrier (“NVOCC”). The president of FSL International is Hiu-Leung “John” Yeung. Full Service Logistics, a California corporation, was granted an OTI (NVOCC) license on February 20, 2003. The CEO of Full Service Logistics is Mei Fung “Ten” Tsang.

It appears that, on and after July 4, 2001, FSL International knowingly and willfully obtained transportation of property at less than the applicable rates and charges set forth in service contracts published by Mitsui OSK Lines and Hyundai Merchant Marine Co. With respect to numerous shipments for which FSL International issued its own NVOCC bill of lading, it appears that FSL International provided service at rates and charges other than those set forth in its published tariff. After receiving a Notice and Demand Letter from the Commission for civil penalties stemming from its alleged violations, FSL International's principal John Yeung proposed, as an alterative, to discontinue business operation no later than February 9, 2003, and to surrender the OTI license for revocation. The license of FSL International was revoked on February 19, 2003. On or about April 23, 2003, the Commission's Los Angeles Area Representative determined that FSL International continued to conduct business. It appears that FSL International continued to serve as a shipper with respect to numerous export shipments while operating from the offices and utilizing the personnel and resources of Full Service Logistics. It appears that Full Service Logistics may have facilitated access by FSL International to its service contracts. It also appears that, Full Service Logistics may have known of or permitted John Yeung to hold himself out as an authorized employee or officer of Full Service Logistics and to perform NVOCC services under its name and license.

This proceeding therefore seeks to determine: (1) Whether FSL International and Full Service Logistics and their principals, John Yeung and Mei Fung Tsang, violated section 10(a)(l) of the Shipping Act of 1984 (“1984 Act”) by directly or indirectly obtaining transportation at less than the service contract rates and charges otherwise applicable; (2) whether FSL International and Full Service Logistic, in their capacity as common carriers, violated section 10(b)(2) of the 1984 Act by charging, demanding, collecting or receiving different compensation than the rates and charges in their NVOCC tariffs; (3) whether FSL International and John Yeung provided OTI services after revocation of its license, in violation of section 19(a) and (b) of the 1984 Act and 46 CFR part 515; (4) whether Full Service Logistics and Mei Fung Tsang provided OTI services to FSL International after revocation of the latter's OTI license, in violation of section 10(b)(11) of the 1984 Act and 46 CFR part 515; (5) whether, in the event violation of sections 10(a)(1), 10(b)(2), 10(b)(11) and 19(a), (b) of the 1984 Act and CFR part 515 are found, civil penalties should be assessed and, if so, the amount; (6) whether the tariff of Full Service Logistics should be suspended; (7) whether the OTI license of Full Service Logistics should be suspended or revoked, and (8) whether, in the event violations are found, an appropriate cease and desist order should be issued.

The full text of the Order may be viewed on the Commission's Home page at: http//www.fmc.gov or at the Office of the Secretary, Room 1046, 800 N. Capitol Street, NW., Washington, DC. Any person may file a petition for leave to intervene in accordance with 46 CFR 502.72.

Bryant L. VanBrakle,
Secretary.

[FR Doc. 03-16629 Filed 7-1-03; 8:45 am]

BILLING CODE 6730-01-P